OFFICE OF SPECIAL COUNSEL

Information Collection Request; Request for Comment

AGENCY: U.S. Office of Special Counsel (OSC).

ACTION: Notice of request for comments.

SUMMARY: In accordance with the Paperwork Reduction Act of 1995 (44 U.S.C. chapter 35), the U.S. Office of Special Counsel (OSC) has submitted to the Office of Management and Budget (OMB) for review and approval the following information collection: OSC's Alternative Dispute Resolution (ADR) Program Survey. The currently approved information collection (OMB Control Number 3255-0008) has been revised to streamline survey administration. OSC now uses a single survey distributed electronically to participants immediately following their ADR mediation session, replacing the previous two-part process. The survey is voluntary and anonymous, and responses are used to evaluate program effectiveness, improve service delivery, and identify areas for enhancement.

DATES: Written comments must be received on or before October 23, 2025.

ADDRESSES: You may submit comments by any of the following methods:

• Mail: Barbara Wheeler Jones, U.S. Office of Special Counsel, 1730 M Street NW, Suite 218, Washington, DC 20036.

• Email: frliaison@osc.gov.

FOR FURTHER INFORMATION CONTACT: Nicole Courtney, Records Manager, at (202) 804-7000 or via email at frliaison@osc.gov.

SUPPLEMENTARY INFORMATION: OSC's ADR Survey is administered electronically to individuals who participate in the agency's voluntary mediation program for prohibited personnel practice complaints. To improve efficiency and enhance response quality, OSC now issues a single consolidated survey immediately after the mediation concludes. The information collected will help OSC evaluate the overall success of its ADR process and improve service delivery. Participation remains voluntary and anonymous.

• Title of Collection: OSC Alternative Dispute Resolution (ADR) Program Survey.

• OMB Control Number: 3255-0008.

• Type of Review: An amendment of a currently approved information collection. OSC has submitted an extension request to OMB for this collection (Control No. 3255-0008), which is currently under review. This notice initiates a separate review process for a proposed revision to that collection, which will be submitted to OMB following the conclusion of the public comment period.

• Affected Public: Individuals who participate in OSC's ADR process (e.g., federal employees, agency representatives, legal counsel).

• Estimated Number of Respondents: 80 annually.

• Estimated Time per Response: 35 minutes.

• Total Estimated Annual Burden: Approximately 46.64.

Abstract: OSC's ADR Program provides a voluntary and confidential mediation process for resolving prohibited personnel practice complaints. To assess participant satisfaction and overall program effectiveness, OSC administers a short survey electronically to each participant following mediation. This revised one-time survey format replaces the prior two-part survey (initial and follow-up). Results will be used to evaluate the ADR program, identify trends, and inform improvements. Responses are voluntary and anonymous.

Request for Comments: OSC invites written comments on:

1. Whether the proposed collection of information is necessary for the proper performance of the functions of the agency, including whether the information will have practical utility;

2. The accuracy of OSC's estimate of the burden of the proposed collection of information;

3. Ways to enhance the quality, utility, and clarity of the information to be collected; and

4. Ways to minimize the burden of the collection of information on respondents, including through the use of automated collection techniques or other forms of information technology.

All comments received will be included in the public record. Comments will be summarized and/or included in the request for Office of Management and Budget (OMB) approval.

Dated: September 19, 2025.
Barbara W. Jones,
Chief, Case Review Division, U.S. Office of Special Counsel.

[FR Doc. 2025-18437 Filed 9-22-25; 8:45 am]

BILLING CODE 7405-01-P